DEPARTMENT OF TRANSPORTATION

Coast Guard

[CGD09-01-123]

Great Lakes Regional Waterways Management Forum

AGENCY: Coast Guard, DOT.

ACTION: Notice of meeting.

SUMMARY: “The Great Lakes Regional Waterways Management Forum” will hold a meeting to discuss various waterways management issues. Agenda items will include updates on Great Lakes dredging and No Ballast On Board (NOBOB) research; progress reports from Forum Subcommittees on Communications, Navigation Technologies, Outreach, Cruise Ships and Ballast Water; and discussions about the agenda for the next meeting. The meeting will be open to the public.

DATES: The meeting will be held October 9, 2001 from 1 p.m. to 3:30 p.m. Comments must be submitted on or before October 5, 2001 to be considered at the meeting

ADDRESSES: The meeting will be held in the U.S. Coast Guard Club located on the U. S. Coast Guard Moorings, 1055 East Ninth Street, Cleveland, OH 44199. Any written comments and materials should be submitted to Commander (map), Ninth Coast Guard District, 1240 E. 9th Street, Room 2069, Cleveland, OH 44199.

FOR FURTHER INFORMATION CONTACT: CDR Michael Gardiner (map), Ninth Coast Guard District, OH 44199, telephone (216) 902-6049. Persons with disabilities requiring assistance to attend this meeting should contact CDR Gardiner.

SUPPLEMENTARY INFORMATION: The Great Lakes Waterways Management Forum identifies and resolves waterways management issues that involve the Great Lakes region. The forum meets twice a year to assess the Great Lakes region, assign priorities to areas of concern and identify issues for resolution. The forum membership has identified agenda items for this meeting that include: updates on Great Lakes dredging and No Ballast On Board (NOBOB) research; progress reports from Forum Subcommittees on Communications, Navigation Technologies, Outreach, Cruise Ships and Ballast Water; and discussions about the agenda for the next meeting. Additional topics of discussion are solicited from the public.

Dated: September 11, 2001.
James D. Hull,
Rear Admiral, U.S. Coast Guard, Commander, Ninth Coast Guard District, Cleveland, Ohio.

[FR Doc. 01-24537 Filed 10-1-01; 8:45 am]

BILLING CODE 4910-15-U